DEFENSE BASE CLOSURE AND REALIGNMENT COMMISSION

Notice of the Defense Base Closure and Realignment Commission—Change to the Location of a Previously Announced Open Meeting (Washington, DC); Correction

AGENCY: Defense Base Closure and Realignment Commission.

ACTION: Notice; Defense Base Closure and Realignment Commission—change to the location of a previously announced open meeting (Washington, DC); correction.

SUMMARY: The Defense Base Closure and Realignment Commission published a document in the Federal Register of June 29, 2005, concerning an open meeting to receive comments from Federal, State and local government representatives and the general public on base realignment and closure actions in the District of Columbia, Pennsylvania and Virginia that have been recommended by the Department of Defense (DoD). The location of this meeting has been changed. The portion of the meeting that relates to the District of Columbia and Pennsylvania will take place from 8:30 a.m. to 12:30 p.m. at the Canon Caucus Room, 345 Canon House Office Building, Washington, DC 20515. The portion of the meeting that relates to Virginia will take place from 1:30 p.m. to 3:30 p.m. at the Sheraton National Hotel, Commonwealth Ballroom, 900 South Orme Street, Arlington, Virginia 22204.

The delay of this change notice resulted from a recent change to the location and the short time-frame established by statute for the operations of the Defense Base Closure and Realignment Commission. The Commission requests that the public consult the 2005 Defense Base Closure and Realignment Commission Web site, http://www.brac.gov, for updates.

FOR FURTHER INFORMATION CONTACT: Please see the 2005 Defense Base Closure and Realignment Commission Web site, http://www.brac.gov. The Commission invites the public to provide direct comment by sending an electronic message through the portal provided on the Commission's Web site or by mailing comments and supporting documents to the 2005 Defense Base Closure and Realignment Commission, 2521 South Clark Street Suite 600, Arlington, Virginia 22202-3920. The Commission requests that public comments be directed toward matters bearing on the decision criteria described in The Defense Base Closure and Realignment Act of 1990, as amended, available on the Commission Web site. Sections 2912 through 2914 of that Act describe the criteria and many of the essential elements of the 2005 BRAC process. For questions regarding this announcement, contact Mr. Dan Cowhig, Deputy General Counsel and Designated Federal Officer, at the Commission's mailing address or by telephone at 703-699-2950 or 2708.

Correction

In the Federal Register of June 29, 2005, in FR Doc. 05-12772, on page 37333, in the first column, correct the SUMMARY, DATES and ADDRESSES captions to read:

SUMMARY: Notice is hereby given that a delegation of Commissioners of the Defense Base Closure and Realignment Commission will hold an open meeting on July 7, 2005. The delegation will meet to receive comment from Federal, State and local government representatives and the general public on base realignment and closure actions in the District of Columbia, Pennsylvania and Virginia that have been recommended by the Department of Defense (DoD). The portion of the meeting that relates to the District of Columbia and Pennsylvania will take place from 8:30 a.m. to 12:30 p.m. at the Canon Caucus Room, 345 Canon House Office Building, Washington DC 20515. The portion of the meeting that relates to Virginia will take place from 1:30 p.m. to 3:30 p.m. at the Sheraton National Hotel, Commonwealth Ballroom, 900 South Orme Street, Arlington, Virginia 22204. The Commission requests that the public consult the 2005 Defense Base Closure and Realignment Commission Web site, http://www.brac.gov, for updates. The purpose of this regional meeting is to allow communities experiencing a base closure or major realignment action (defined as loss of 300 civilian positions or 400 military and civilian positions) an opportunity to voice their concerns, counter-arguments, and opinions in a live public forum. This meeting will be open to the public, subject to the availability of space. Sign language interpretation will be provided. The delegation will not render decisions regarding the DoD recommendations at this meeting, but will gather information for later deliberations by the Commission as a whole.

DATES: Topic: District of Columbia and Pennsylvania, July 7, 2005, from 8:30 a.m. to 12:30 p.m.

Topic: Virginia, July 7, 2005, from 1:30 p.m. to 3:30 p.m.

ADDRESSES: Topic: District of Columbia and Pennsylvania, July 7, 2005, from 8:30 a.m. to 12:30 p.m.

Location: Canon Caucus Room, 345 Canon House Office Building, Washington DC 20515.

Topic: Virginia, July 7, 2005, from 1:30 p.m. to 3:30 p.m.

Location: Sheraton National Hotel, Commonwealth Ballroom, 900 South Orme Street, Arlington, Virginia 22204.

Dated: July 5, 2005.
Jeannette Owings-Ballard,
Administrative Support Officer.

[FR Doc. 05-13476 Filed 7-5-05; 1:09 pm]

BILLING CODE 5001-06-P